DEPARTMENT OF THE INTERIOR

Bureau of Land Management

[LLNVB00000 L51010000.ER0000 LVRWF0900380 241A; 10-08807; MO#4500014355; TAS: 14X5017]

Notice of Availability of Draft Environmental Impact Statement for the Tonopah Solar Energy Crescent Dunes Solar Energy Project, Nye County, NV

AGENCY: Bureau of Land Management, Interior.

ACTION: Notice of availability.

SUMMARY: In accordance with the National Environmental Policy Act of 1969, as amended (NEPA), the Bureau of Land Management (BLM) has prepared a Draft Environmental Impact Statement (EIS) for the Crescent Dunes Solar Energy Project, Nye County, Nevada, and by this Notice is announcing the opening of the comment period.

DATES: To ensure comments will be considered, the BLM must receive written comments on the Crescent Dunes Solar Energy Project Draft EIS within 45 days following the date the Environmental Protection Agency publishes its Notice of Availability in the Federal Register. The BLM will announce future meetings or hearings and any other public involvement activities at least 15 days in advance through public notices, media news releases, and/or mailings.

ADDRESSES: You may submit comments on the Crescent Dunes Solar Energy Project Draft EIS by any of the following methods:

• E-mail: crescent_dunes@blm.gov.

• Fax: 775-482-7810.

• Mail: Timothy Coward, Renewable Energy Project Manager, BLM Tonopah Field Office, P.O. Box 911, Tonopah, Nevada 89049.

Copies of the Draft EIS for the Crescent Dunes Solar Energy Project are available at the BLM Tonopah Field Office and at the Battle Mountain District Office, 50 Bastian Road, Battle Mountain, Nevada, or at the following Web site: http://www.blm.gov/nv/st/en/fo/battle_mountain_field.html.

FOR FURTHER INFORMATION CONTACT: Timothy Coward, (775) 482-7800, BLM Tonopah Field Office, 1553 South Main Street, P.O. Box 911, Tonopah, Nevada 89049; Timothy_Coward@blm.gov.

SUPPLEMENTARY INFORMATION: Tonopah Solar Energy, LLC applied to the BLM for a 7,680-acre right-of-way (ROW) on public lands to construct a concentrated solar thermal power plant facility approximately 13 miles northwest of Tonopah, Nye County, Nevada. The proposed project is not expected to use the total acres applied for in the ROW application. The project is located within the southern portion of the Big Smoky Valley, north of U.S. Highway 95/6 along the Gabbs Pole Line Road (State Highway 89). The facility is expected to operate for approximately 30 years. The proposed solar power project would use concentrated solar power technology, using heliostats or mirrors to focus sunlight on a receiver erected in the center of the solar field (the power tower or central receiver). A heat transfer fluid is heated as it passes through the receiver and is then circulated through a series of heat exchangers to generate high-pressure steam. The steam is used to power a conventional Rankine cycle steam turbine, which produces electricity. The exhaust steam from the turbine is condensed and returned via feedwater pumps to the heat exchangers where steam is regenerated. Hybrid cooling processes would be used for this project to minimize water use while continuing to maintain efficient power generation. The plant design would generate a nominal capacity of 100 megawatts.

The project's proposed facility design includes the heliostat fields, a 653-foot central receiver tower, a power block, buildings, a parking area, a laydown area, evaporating ponds, and an access road. A single overhead 230-kilovolt transmission line would connect the plant to the nearby Anaconda Moly substation.

The Draft EIS describes and analyzes the proposed project's site-specific impacts on air quality, biological resources, cultural resources, water resources, geological resources, hazardous materials handling, land use, noise, paleontological resources, public health, socioeconomics, soils, traffic and transportation, visual resources, wilderness characteristics, waste management, worker safety, and fire protection. The Draft EIS also describes facility design engineering, efficiency, reliability, transmission system engineering, and transmission line safety.

Three action alternatives were analyzed in addition to the No Action alternative: the Proposed Action Alternative, Alternative 1, and Alternative 2. Alternative 2 is the BLM preferred alternative.

Scoping of the project occurred from November 24, 2009 through December 24, 2009. A total of 24 comments were received. Comments on cumulative impacts identified the affects to air quality to include criteria pollutant and “Dark Sky” attributes on the effects of the viewshed, and the availability of water for current and future use. Other comments were that the proposed project is located in an area of pediment adjacent to 2 highly mineralized mountain ranges which have identified molybdenum and lithium deposits.

Maps of the proposed project area and the alternatives being analyzed in the Draft EIS are available at the BLM Tonopah Field Office, the Battle Mountain District Office, and at: http://www.blm.gov/nv/st/en/fo/battle_mountain_field.html.

Please note that public comments and information submitted, including names, street addresses, and e-mail addresses of persons who submit comments, will be available for public review and disclosure at the above address during regular business hours (8 a.m. to 4 p.m.), Monday through Friday, except holidays. Before including your address, phone number, e-mail address, or other personal identifying information in your comment, you should be aware that your entire comment—including your personal identifying information—may be made publicly available at any time. While you can ask us in your comment to withhold your personal identifying information from public review, we cannot guarantee that we will be able to do so.

Authority: 40 CFR 1506.6 and 1506.10.

Thomas J. Seley,
Manager, Tonopah Field Office.

[FR Doc. 2010-21958 Filed 9-2-10; 8:45 am]

BILLING CODE 4310-HC-P